DEPARTMENT OF TRANSPORTATION

Federal Aviation Administration

14 CFR Part 39

[Docket No. FAA-2011-0684; Directorate Identifier 2010-NE-27-AD]

RIN 2120-AA64

Airworthiness Directives; Rolls-Royce Deutschland Ltd & Co KG (RRD) BR700-710 Series Turbofan Engines

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

Analysis of service data carried out by Rolls-Royce Deutschland has shown that the effect of touch-and-go and overshoot on life cycle counting is higher than anticipated. Therefore, the life cycle counting method for touch-and-go and overshoot as defined by the Time Limits Manual needs to be changed to reflect this higher effect on life.

We are proposing this AD to prevent failure of high-energy, life-limited parts, uncontained engine failure, and damage to the airplane.

DATES: We must receive comments on this proposed AD by August 19, 2011.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Rolls-Royce Deutschland Ltd & Co KG, Eschenweg 11, Dahlewitz, 15827 Blankenfelde-Mahlow, Germany; telephone: 49 0 33-7086-1883; fax: 49 0 33-7086-3276, for the service information identified in this proposed AD.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (phone (800) 647-5527) is the same as the Mail address provided in the ADDRESSES section. Comments will be available in the AD docket shortly after receipt.

FOR FURTHER INFORMATION CONTACT: Mark Riley, Aerospace Engineer, Engine Certification Office, FAA, Engine & Propeller Directorate, 12 New England Executive Park, Burlington, MA 01803; e-mail: mark.riley@faa.gov; phone: (781) 238-7758; fax: (781) 238-7199.

SUPPLEMENTARY INFORMATION:

Comments Invited

We invite you to send any written relevant data, views, or arguments about this proposed AD. Send your comments to an address listed under the ADDRESSES section. Include “Docket No. FAA-2011-0684; Directorate Identifier 2010-NE-27-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, has issued EASA Airworthiness Directive 2010-0077, dated April 20, 2010 (referred to after this as “the MCAI”), to correct an unsafe condition for the specified products. The MCAI states:

Analysis of service data carried out by Rolls-Royce Deutschland has shown that the effect of touch-and-go and overshoot on life cycle counting is higher than anticipated. Therefore, the life cycle counting method for touch-and-go and overshoot as defined by the Time Limits Manual needs to be changed to reflect this higher effect on life.

This AD requires a change of the life cycle counting method for touch-and-go and overshoot for all critical parts and the Low Pressure (LP) compressor blades as specified in the Rolls-Royce Deutschland Alert NMSB-BR700-72-A900504 Revision 1. The chapter 05-00-01 and 05-00-02 of the applicable Time Limits Manuals will be revised accordingly.

You may obtain further information by examining the MCAI in the AD docket.

Relevant Service Information

Rolls-Royce Deutschland Ltd & Co KG has issued Alert Service Bulletin SB-BR700-72-A900504, Revision 1, dated February 19, 2010. The actions described in this service information are intended to correct the unsafe condition identified in the MCAI.

FAA's Determination and Requirements of This Proposed AD

This product has been approved by the aviation authority of Germany, and is approved for operation in the United States. Pursuant to our bilateral agreement with Germany, they have notified us of the unsafe condition described in the MCAI and service information referenced above. We are proposing this AD because we evaluated all information provided by EASA and determined the unsafe condition exists and is likely to exist or develop on other products of the same type design.

Differences Between This AD and the MCAI or Service Information

The MCAI requires operators to:

• Within 4 months after the effective date of that AD, the calculation of lives for every touch-and-go and overshoot for all critical parts and LP compressor blades must be done in accordance with Rolls-Royce Deutschland Alert NMSB-BR700-72-A900504 Revision 1, paragraph 3.A.

• Within 4 months after the effective date of that AD, determine the number of touch-and-go's and overshoots that each individual critical part (except the fan shaft and LP turbine rotor shaft) has experienced since entry into service in accordance with Rolls-Royce Deutschland Alert NMSB-BR700-72-A900504 Revision 1, paragraph 3.B.

This proposed AD would require operators to:

• Revise their airworthiness limitation section (ALS) of their approved maintenance program (Time Limits Manual (TLM), chapters 05-00-01 and 05-00-02 of the applicable engine manuals (EMs)) within 30 days to remove the requirement for operators to record each touch-and-go and overshoot as ⅕ flight cycle (FC) on engines installed on airplanes used for pilot training.

• Revise their ALS of their approved maintenance program (TLM chapters 05-00-01 and 05-00-02 of the applicable EMs) within 30 days to add a requirement to record each touch-and-go and overshoot as 1 FC on all engines affected by this proposed AD.

• Review their engine maintenance records since entry into service to determine the total number of touch-and-go's and overshoots that have occurred during Pilot Training.

• To adjust the number of flight cycles used on the critical parts if the total number of touch-and-go's and overshoots experienced during pilot training is one percent or more of the total number of flight cycles.

Costs of Compliance

Based on the service information, we estimate that this proposed AD would affect about 1,052 products of U.S. registry. We also estimate that it would take about 1 work-hour per product to comply with this proposed AD. The average labor rate is $85 per work-hour. Based on these figures, we estimate the cost of the proposed AD on U.S. operators to be $89,420.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Rolls-Royce Deutschland Ltd & Co KG (Formerly Rolls-Royce Deutschland GmbH, formerly BMW Rolls-Royce GmbH): Docket No. FAA-2011-0684; Directorate Identifier 2010-NE-27-AD.

Comments Due Date

(a) We must receive comments by August 19, 2011.

Affected Airworthiness Directives (ADs)

(b) None.

Applicability

(c) This AD applies to all RRD BR700-710A1-10 and BR700-710A2-20 turbofan engines, all BR700-710C4-11 model engines that have hardware configuration standard 710C4-11 engraved on the engine data plate (Service Bulletin SB-BR700-72-101466 standard not incorporated), and all BR700-710C4-11 model engines that have hardware configuration standard 710C4-11/10 engraved on the engine data plate (Service Bulletin SB-BR700-72-101466 standard incorporated). These engines are installed on, but not limited to, Bombardier BD-700-1A10 and BD-700-1A11 airplanes and Gulfstream GV (G500) and GV-SP (G550) airplanes.

Reason

(d) This AD results from:

Analysis of service data carried out by Rolls-Royce Deutschland has shown that the effect of touch-and-go and overshoot on life cycle counting is higher than anticipated. Therefore, the life cycle counting method for touch-and-go and overshoot as defined by the Time Limits Manual needs to be changed to reflect this higher effect on life.

We are issuing this AD to prevent failure of high-energy, life-limited parts, uncontained engine failure, and damage to the airplane.

Actions and Compliance

(e) Unless already done, do the following actions.

(1) Within 30 days after the effective date of this AD, revise the airworthiness limitations section (ALS) of the operators approved maintenance program (reference the Time Limits Manual (TLM), chapters 05-00-01 and 05-00-02 of the applicable engine manuals (EMs) to remove the requirement to record each touch-and-go or overshoot as ⅕ of a flight cycle (FC) on an engine installed on an airplane used for Pilot Training.

(2) Within 30 days after the effective date of this AD, revise the ALS of the operators approved maintenance program (reference the TLM, chapters 05-00-01 and 05-00-02 of the TLM of the applicable EMs) to add a requirement to record each touch-and-go or overshoot as 1 FC to the life of all critical parts and the fan blades.

(3) Within 120 days after the effective date of this AD, determine the number of touch-and-go's and overshoots that each individual critical part except the fan shaft and LP turbine rotor shaft has experienced since entry into service for Pilot Training.

(i) If the number of touch-and-go's and overshoots on an individual critical part is less than one percent of the total number of flight cycles (FC) on the critical part, no further action is required by this AD.

(ii) If the number of touch-and-go's and overshoots on an individual critical part is one percent or more of the total number of FC on the critical part, disregard the previous calculations of life on that individual critical part and retrospectively re-calculate the accumulated FC of that individual critical part by the addition of one FC for every touch-and-go and overshoot to the total number of FC.

Definitions

(f) A touch-and-go is a phase of a flight where a landing approach of an airplane is continued to the touch-down point and the airplane immediately takes off again without stopping.

(g) An overshoot is a phase of a flight where a landing approach of an airplane is not continued to the touchdown point. This includes missed approaches due to safety reasons, weather minimums, airplane engine configurations, runway incursions, and any other undetermined causes.

FAA AD Differences

(h) This AD differs from the Mandatory Continuing Airworthiness Information (MCAI) and or service information as follows:

(1) This AD requires within 30 days after the effective date of this AD, revising the ALS of the operators approved maintenance program (reference the TLM chapters 05-00-01 and 05-00-02 of the applicable EMs) to remove the requirement to record each touch-and-go or overshoot as ⅕ of a FC on an engine installed on an airplane used for Pilot Training, and adding a requirement to record each touch-and-go or overshoot as 1 FC to the life of all critical parts and the fan blades. The MCAI requires that the revised method of life counting for each touch-and-go and overshoot be accomplished within 4 months.

(2) The MCAI requires determining the total number of touch-and-go's and overshoots that each individual critical part (except the fan shaft and LP turbine rotor shaft) has experienced since entry into service. This AD only requires determining those numbers for touch-and-go's and overshoots that had occurred during Pilot Training.

Other FAA AD Provisions

(i) Alternative Methods of Compliance (AMOCs): The Manager, Engine Certification Office, FAA, has the authority to approve AMOCs for this AD, if requested using the procedures found in 14 CFR 39.19.

Related Information

(j) Refer to MCAI European Aviation Safety Agency Airworthiness Directive 2010-0077, dated April 20, 2010, and Rolls-Royce Deutschland Ltd & Co KG Alert Service Bulletin SB-BR700-72-A900504, Revision 1, dated February 19, 2010, for related information. Contact Rolls-Royce Deutschland Ltd & Co KG, Eschenweg 11, Dahlewitz, 15827 Blankenfelde-Mahlow, Germany; telephone: 49 0 33-7086-1883; fax: 49 0 33-7086-3276, for a copy of this service information.

(k) Contact Mark Riley, Aerospace Engineer, Engine Certification Office, FAA, Engine & Propeller Directorate, 12 New England Executive Park, Burlington, MA 01803; e-mail: mark.riley@faa.gov; phone: (781) 238-7758; fax: (781) 238-7199, for more information about this AD.

Issued in Burlington, Massachusetts, on June 27, 2011.
Peter A. White,
Acting Manager, Engine and Propeller Directorate, Aircraft Certification Service.

[FR Doc. 2011-16709 Filed 7-1-11; 8:45 am]

BILLING CODE 4910-13-P